DEPARTMENT OF HEALTH AND HUMAN SERVICES

Centers for Disease Control and Prevention

Notice of Award of a Single-Source Cooperative Agreement To Fund Institute of Epidemiology Disease Control and Research in Bangladesh, Institut National Hygiene Publique in Cote d'lvoire, and Ghana Health Service in Ghana

AGENCY: Centers for Disease Control and Prevention (CDC), Department of Health and Human Services (HHS).

ACTION: Notice.

SUMMARY: The Centers for Disease Control and Prevention (CDC), located within the Department of Health and Human Services (HHS), announces three separate awards to fund the Institut of Epidemiology Disease Control and Research (IEDCR), the Institut National Hygiene Publique (INHP), and the Ghana Health Service (GHS). The awards will protect Americans and people worldwide from public health threats by building capacity within their respective countries to strengthen public health preparedness; early pathogen detection to mitigate the impact of global disease outbreaks and public health; and bolstering rapid response to global health emergencies.

DATES: The period for these awards will be September 30, 2023 through September 29, 2028.

FOR FURTHER INFORMATION CONTACT: Prianca Reddi, Division of Global Health Protection, Center for Global Health, Centers for Disease Control and Prevention, 1600 Clifton Rd., Atlanta, GA, Telephone: 404-498-2117, E-Mail: DGHPNOFOs@cdc.gov.

SUPPLEMENTARY INFORMATION: The single-source award will provide support around disease surveillance and outbreak response, including establishing routine surveillance and developing information technology tools and systems. Broad areas of support include, but are not limited to: emergency management, ensuring countries have the knowledge and resources they need, including emergency operations centers that can mount a fast, coordinated response when outbreaks happen; safe laboratory systems and diagnostics, building the capacity to identify disease threats close to the source and inform decision-making; and developing the workforce, training frontline responders, laboratorians, disease detectives, emergency managers, and other health professionals who are responsible for taking the lead when crisis strikes.

IEDCR, INHP, and GHS are in a unique position to conduct this work, as they are host government ministries of health with the authority to support health service delivery through capacity building and oversee the national coordination of surveillance, preparedness, prevention, and response activities to all forms of health threats and public health emergencies.

Summary of the Award

Recipient: Institute of Epidemiology Disease Control and Research, Institut National Hygiene Publique, and Ghana Health Service.

Purpose of the Award: The purpose of these awards is to support disease surveillance and outbreak response, emergency management, safe laboratory systems and diagnostics and developing the public health workforce in Bangladesh, Cote d'Ivoire, and Ghana.

Amount of Award: For IEDCR, the approximate year 1 award funding amount is $750,000 in Federal Fiscal Year (FFY) 2023, subject to the availability of funds. Funding amounts for years 2-5 will be set at continuation. For INHP, the approximate year 1 award funding amount is $1,000,000 in Federal Fiscal Year (FFY) 2023, subject to the availability of funds. Funding amounts for years 2-5 will be set at continuation. For GHS, the approximate year 1 award funding amount is $2,000,000 in Federal Fiscal Year (FFY) 2023, subject to the availability of funds. Funding amounts for years 2-5 will be set at continuation. The total 5-year period amount for the three recipients is $18,750,000, subject to the availability of funds.

Authority: This program is authorized under section 307 of the Public Health Service Act [42 U.S.C. 242l] and section 301(a) [42 U.S.C. 241(a)] of the Public Health Service Act.

Period of Performance: September 30, 2023 through September 29, 2028.

Dated: February 22, 2023.
Terrance Perry,
Chief Grants Management Officer, Centers for Disease Control and Prevention.

[FR Doc. 2023-04014 Filed 2-27-23; 8:45 am]

BILLING CODE 4163-18-P